DEPARTMENT OF COMMERCE

National Oceanic and Atmospheric Administration

[I.D. 051801E]

Endangered and Threatened Species; Take of Anadromous Fish

AGENCY: National Marine Fisheries Service (NMFS), National Oceanic and Atmospheric Administration (NOAA), Commerce.

ACTION: Notice of availability and request for comment.

SUMMARY: Notice is hereby given that the Washington Department of Fish and Wildlife (WDFW) has submitted a Fisheries Management and Evaluation Plan (FMEP) pursuant to the protective regulations promulgated for Lower Columbia River (LCR) chinook salmon, LCR steelhead and LCR chum salmon under the Endangered Species Act (ESA). The FMEP specifies the future management of inland recreational fisheries potentially affecting the LCR chinook salmon, LCR steelhead, and LCR chum salmon in the State of Washington. This document serves to notify the public of the availability of the FMEP for review and comment before a final approval or disapproval is made by NMFS.

DATES: Written comments on the draft FMEP must be received no later than 5 p.m. Pacific standard time on June 28, 2001.

ADDRESSES: Written comments and requests for copies of the draft FMEP should be addressed to Richard Turner, Sustainable Fisheries Division, Hatchery and Inland Fisheries Branch, 525 N.E. Oregon Street, Suite 510, Portland, OR 97232 or faxed to 503-872-2737. The documents are also available on the Internet at http://www.nwr.noaa.gov/. Comments will not be accepted if submitted via e-mail or the Internet.

FOR FURTHER INFORMATION CONTACT: Richard Turner, Portland, OR at phone number 503-736-4737 or e-mail: rich.turner@noaa.gov.

SUPPLEMENTARY INFORMATION: This notice is relevant to the Lower Columbia River chinook salmon (Oncorhynchus tshawytscha), Lower Columbia River steelhead (O. mykiss), and Lower Columbia River chum salmon (O. nerka) Evolutionarily Significant Units (ESU).

Background

WDFW has submitted to NMFS an FMEP for inland recreational fisheries potentially affecting listed adults and juveniles of the LCR ESUs. These include fisheries occurring in the Washington tributaries of the Columbia River from the mouth at the Pacific Ocean upstream to the White Salmon River. The objective of the FMEP is to harvest known, hatchery-origin chinook and steelhead, natural and hatchery fall chinook and other fish species in a manner that does not jeopardize the survival and recovery of the listed LCR ESUs. All spring chinook and steelhead fisheries included in this FMEP will be managed such that only hatchery-produced adult spring chinook and steelhead that are adipose fin clipped may be retained. The tributary fisheries for fall chinook salmon will be managed to meet natural and hatchery escapements and limited by total impacts from all fisheries including those that occur in the Pacific Ocean and mainstem Columbia River. Impact levels to the listed LCR ESUs are specified in the FMEP. Risk assessments in the FMEP indicate the extinction risk for the listed ESUs under the proposed fishery impact levels to be low. A variety of monitoring and evaluation tasks are specified in the FMEP to assess the abundance of chinook salmon, steelhead and chum salmon; determine fishery effort and catch of chinook salmon and steelhead; and angler compliance. WDFW will annually conduct a review of fisheries compliance with the provisions of the FMEP. WDFW will conduct, at a minimum of every 5 years, a comprehensive review to evaluate the effectiveness of the FMEP.

As specified in July 10, 2000 ESA 4(d) rule for salmon and steelhead (65 FR 42422), NMFS may approve an FMEP if it meets criteria set forth in § 223.203 (b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to activities associated with fishery harvest provided that an FMEP has been approved by NMFS to be in accordance with the salmon and steelhead 4(d) rule (65 FR 42422, July 10, 2000).

Dated: May 23, 2001.
Phil Williams,
Acting Chief, Endangered Species Division, Office of Protected Resources, National Marine Fisheries Service.

[FR Doc. 01-13432 Filed 5-25-01; 8:45 am]

BILLING CODE 3510-22-S